ENVIRONMENTAL PROTECTION AGENCY

40 CFR Part 52

[EPA-R10-OAR-2023-0583, FRL-11575-03-R10]

Air Plan Approval; ID; Revisions to Air Quality Regulations

AGENCY: Environmental Protection Agency (EPA).

ACTION: Final rule.

SUMMARY: The Environmental Protection Agency (EPA) is approving revisions to the Idaho State Implementation Plan (SIP) submitted on May 8, 2023, and May 13, 2024. The revisions update the adoption by reference of specific Federal standards and reference methods and streamline the Idaho air quality regulations by repealing outdated provisions, striking duplicative terms, and simplifying rule language.

DATES: This final rule is effective January 6, 2025.

ADDRESSES: The EPA has established a docket for this action under Docket ID No. EPA-R10-OAR-2023-0583. All documents in the docket are listed on the https://www.regulations.gov website. Although listed in the index, some information is not publicly available, e.g., Confidential Business Information or other information the disclosure of which is restricted by statute. Certain other material, such as copyrighted material, is not placed on the internet and will be publicly available only in hard copy form. Publicly available docket materials are available at https://www.regulations.gov, or please contact the person listed in the FOR FURTHER INFORMATION CONTACT section for additional availability information.

FOR FURTHER INFORMATION CONTACT: Kristin Hall, EPA Region 10, 1200 Sixth Avenue, Suite 155, Seattle, WA 98101, at (206) 553-6357 or hall.kristin@epa.gov.

SUPPLEMENTARY INFORMATION: Throughout this document, wherever “we” or “our” is used, it means the EPA.

I. Background

On June 24, 2024, the EPA proposed to approve revisions to the Idaho SIP to update the adoption by reference of specific Federal standards and reference methods and streamline the Idaho air quality regulations by repealing outdated provisions, striking duplicative terms, and simplifying rule language (89 FR 52415). The reasons for our proposed action are included in the proposal and will not be restated here. The public comment period closed on July 24, 2024. We received two comments from members of the public. The full text of the comments may be found in the docket for this action. We have summarized the comments in the following section II. of this preamble.

II. Comments

The first commenter conveyed overall support for our proposed action. The EPA acknowledges the commenter's support.

The second commenter expressed concern about air emissions from cannabis plants and stated there is a need to study volatile organic compound emissions from the plants and how such emissions may contribute to ozone formation. This comment is outside the scope of this action. The revisions to Idaho's SIP do not relate to cannabis production in general or VOC emissions from cannabis production in particular. Rather, the revisions to Idaho's SIP update the adoption by reference of specific Federal standards and reference methods and streamline the Idaho air quality regulations by repealing outdated provisions, striking duplicative terms, and simplifying rule language. In addition, the commenter did not indicate that EPA approval of the SIP submissions is inconsistent with the Clean Air Act.

Therefore, for the reasons stated in this preamble and our proposed action on June 24, 2024, we are finalizing our action as proposed (89 FR 52415).

III. Final Action

The EPA is approving, and incorporating by reference into 40 CFR 52.670(c), the air quality regulatory revisions submitted by Idaho on May 8, 2023 and May 13, 2024, as detailed in this section.

A. IDAPA Provisions for Approval and Incorporation by Reference

Upon the effective date of this final action, the Idaho SIP will incorporate the following sections of the Idaho Rules for the Control of Air Pollution (IDAPA 58.01.01), State effective March 28, 2023, unless otherwise specified:

• IDAPA 58.01.01.001 Title and scope (describing the title and general scope);

• IDAPA 58.01.01.005 Definitions (referencing the terms defined in State statute and Federal regulations to be used in the Idaho air quality regulations);

• IDAPA 58.01.01.006 General definitions (defining centralized terms used in the Idaho air quality regulations), except 006.23, 006.24, 006.25, 006.30, 006.31.b, 006.49, 006.50, 006.51;

• IDAPA 58.01.01.007 Definitions for the purposes of sections 200 through 228 and 400 through 461 (defining centralized terms used in the major and minor source permitting programs);

• IDAPA 58.01.01.107 Incorporations by reference (listing the codes, rules and standards incorporated by reference into the Idaho air quality regulations), except 107.06 through 107.16, State effective July 1, 2024;

• IDAPA 58.01.01.108 Obligation to comply (requiring that receiving a permit or certificate of registration does not relieve the owner or operation of the obligation to comply with all applicable regulations);

• IDAPA 58.01.01.121 Compliance requirements by department (detailing actions to ensure compliance with the air quality rules);

• IDAPA 58.01.01.122 Information orders by the department (establishing how information may be obtained in implementing the air quality rules);

• IDAPA 58.01.01.123 Certification of documents (requiring documents submitted to be certified as true, accurate and complete);

• IDAPA 58.01.01.125 False statements (prohibiting false statements, representation, or certification);

• IDAPA 58.01.01.126 Tampering (prohibiting interference with monitoring device, method, rule or order);

• IDAPA 58.01.01.130 Startup, shutdown, scheduled maintenance, safety measures, upset and breakdown (defining startup, shutdown, upset and scheduled maintenance), State effective July 1, 2024;

• IDAPA 58.01.01.131 Excess emissions (establishing enforcement discretion criteria in the event of excess emissions);

• IDAPA 58.01.01.132 Correction of condition (requiring appropriate action to correct conditions causing an excess emissions event);

• IDAPA 58.01.01.133 Startup, shutdown and scheduled maintenance requirements (prescribing notifications, recordkeeping, reporting and other actions related to modes of operation);

• IDAPA 58.01.01.134 Upset, breakdown and safety requirements (identifying safety requirements and measures to minimize excess emissions during upsets);

• IDAPA 58.01.01.135 Excess emissions reports (detailing required data to be reported about excess emissions events);

• IDAPA 58.01.01.136 Excess emissions records (requiring records retention related to excess emissions);

• IDAPA 58.01.01.155 Circumvention (prohibiting the concealment of emissions);

• IDAPA 58.01.01.157 Test methods and procedures (establishing procedures for source test methods);

• IDAPA 58.01.01.164 Polychlorinated biphenyls (PCBs) (prohibiting the burning or selling of PCBs);

• IDAPA 58.01.01.175 Procedures and requirements for permits establishing a facility emissions cap (setting uniform procedures for a source to seek a facility emissions cap);

• IDAPA 58.01.01.176 Facility emissions cap, except provisions relating to hazardous air pollutants (establishing applicability and definitions for facility emissions cap requirements);

• IDAPA 58.01.01.178 Standard contents of permits establishing a facility emissions cap (listing the required contents of a permit establishing a facility emissions cap);

• IDAPA 58.01.01.179 Procedures for issuing permits establishing a facility emissions cap (identifying the procedures to be followed in issuing a facility emissions cap);

• IDAPA 58.01.01.180 Revisions to permits establishing a facility emissions cap (requiring changes to permit terms and conditions under certain circumstances);

• IDAPA 58.01.01.181 Notice and record-keeping of estimates of ambient concentrations (prescribing the process to make allowable changes to a facility emissions cap);

• IDAPA 58.01.01.200 Procedures and requirements for permits to construct (establishing uniform procedures for issuing permits to construct);

• IDAPA 58.01.01.201 Permit to construct required (requiring owners and operators of certain facilities to obtain permits to construct unless otherwise covered by a general permit or permit by rule);

• IDAPA 58.01.01.202 Application procedures (requiring a certified application using approved forms when applying for a permit to construct);

• IDAPA 58.01.01.203 Permit requirements for new and modified stationary sources, except 203.03 (stating that no permit will be issued unless a source complies with applicable emission limits and does not cause or contribute to a violation of an ambient air quality standard);

• IDAPA 58.01.01.204 Permit requirements for new major facilities or major modifications in nonattainment areas (requiring LAER and offsets for new major facilities and major modifications in nonattainment areas);

• IDAPA 58.01.01.205 Permit requirements for new major facilities or major modifications in attainment or unclassifiable areas (requiring new major facilities and major modifications meet certain requirements to construct in attainment areas);

• IDAPA 58.01.01.206 Optional offsets for permits to construct (offering the option to offset emissions using credits);

• IDAPA 58.01.01.208 Demonstration of net air quality benefit (establishing how to demonstrate net air quality benefit for emissions trades);

• IDAPA 58.01.01.209 Procedure for issuing permits (laying out application, public process and approval procedures for issuing permits);

• IDAPA 58.01.01.211 Conditions for permits to construct (conditioning permits to include monitoring, performance testing, cancellation);

• IDAPA 58.01.01.212 Relaxation of standards or restrictions (spelling out major preconstruction permitting requirements when a limit has been relaxed);

• IDAPA 58.01.01.213 Pre-permit construction (specifying when certain minor sources may request to construct before obtaining the permit);

• IDAPA 58.01.01.220 General exemption criteria for permit to construct exemptions (detailing exemptions from the requirements to obtain a permit to construct);

• IDAPA 58.01.01.221 Category I exemption (specifying exemptions for sources below regulatory concern);

• IDAPA 58.01.01.222 Category II exemption (detailing exemptions for sources such as laboratory equipment, pilot plants, mobile engines, retail gasoline facilities, etc.);

• IDAPA 58.01.01.226 Payment of fees for permits to construct (requiring application and processing fee payment for permits to construct);

• IDAPA 58.01.01.227 Receipt and usage of fees (requiring received fees to be used to administer the permit to construct and Tier II operating permit programs)

• IDAPA 58.01.01.400 Procedures and requirements for Tier II operating permits (stating the purpose of the Tier II operating permit rules);

• IDAPA 58.01.01.401 Tier II operating permit, except 401.01.a and 401.04 (laying out optional and required Tier II operating permits);

• IDAPA 58.01.01.402 Application procedures (laying out how to apply for a Tier II operating permit);

• IDAPA 58.01.01.403 Permit requirements for Tier II sources (requiring that no permit be issued unless it would include all applicable emission limits and ambient air quality standards);

• IDAPA 58.01.01.404 Procedure for issuing permits (general procedures for issuing Tier II permits);

• IDAPA 58.01.01.405 Conditions for Tier II operating permits (laying out permit terms, performance test requirements, and other conditions);

• IDAPA 58.01.01.460 Requirements for emission reduction credit (establishing the conditions that constitute a creditable emission reduction);

• IDAPA 58.01.01.461 Requirements for banking emission reduction credits (ERC's) (setting out how emission reduction credits may be banked);

• IDAPA 58.01.01.500 Registration procedures and requirements for portable equipment (requiring all portable equipment to be registered);

• IDAPA 58.01.01.510 Stack heights and dispersion techniques (establishing criteria for good engineering practice related to stack heights and dispersion techniques);

• IDAPA 58.01.01.511 Requirements (providing that the required degree of emission control must not be affected by the amount of stack height that exceeds good engineering practices);

• IDAPA 58.01.01.512 Opportunity for public hearing (providing an opportunity for a public hearing where a stack height would exceed good engineering practices);

• IDAPA 58.01.01.513 Approval of field studies and fluid models (requiring approval of field studies and fluid models by the EPA);

• IDAPA 58.01.01.514 No restriction on actual stack height (providing that these rules do not restrict actual stack height);

• IDAPA 58.01.01.550 Air quality episodes (defining requirements in the event of episodes of poor air quality);

• IDAPA 58.01.01.556 Criteria for declaring air quality episodes (identifying alert, warning and emergency episode stages);

• IDAPA 58.01.01.557 Requirements during air quality episodes (prescribing actions to be taken during air quality episode stages);

• IDAPA 58.01.01.558 Notification of air quality episode (defining what information will be provided to the public in the event of an air quality episode);

• IDAPA 58.01.01.562 Specific air quality episode abatement plans for stationary sources (requiring specific sources to adopt and implement their own abatement plans in the event of an air quality episode);

• IDAPA 58.01.01.579 Baselines for prevention of significant deterioration (establishing the baseline dates to be used in the PSD permitting program);

• IDAPA 58.01.01.580 Classification of prevention of significant deterioration areas (listing procedures for redesignating PSD areas);

• IDAPA 58.01.01.581 Prevention of significant deterioration (PSD) increments (establishing the allowable degree of deterioration for areas that have air quality better than the ambient standards);

• IDAPA 58.01.01.600 Rules for control of open burning (establishing rule to protect human health and the environment from air pollutants resulting from open burning);

• IDAPA 58.01.01.601 Fire permits, hazardous materials, and liability (stating that a person is not exempt from other laws and ordinances related to open burning);

• IDAPA 58.01.01.602 Nonpreemption of other jurisdiction (stating that these rules are not intended to interfere with the rights of other agencies to provide equal or more stringent open burning controls);

• IDAPA 58.01.01.603 General requirements (prescribing the general open burning restrictions);

• IDAPA 58.01.01.606 Categories of allowable burning (listing the categories of allowable open burning);

• IDAPA 58.01.01.607 Recreational and warming fires (describing the campfires, barbeques, ceremonial fires and small handwarming fires that are allowed);

• IDAPA 58.01.01.608 Weed control fires (describing the weed abatement fires that are allowed);

• IDAPA 58.01.01.609 Training fires (describing the fire and land management training fires that are allowed);

• IDAPA 58.01.01.611 Residential yard waste fires (describing the yard waste disposal fires that are allowed);

• IDAPA 58.01.01.612 Solid waste facility fires (describing when solid waste disposal fires may be allowed);

• IDAPA 58.01.01.613 Orchard fires (describing orchard clipping disposal fires that are allowed);

• IDAPA 58.01.01.614 Prescribed fires (describing the prescribed fire that may be allowed under certain conditions);

• IDAPA 58.01.01.615 Dangerous material fires (describing allowable fires ignited under the direction of a public or military fire chief to dispose of dangerous materials);

• IDAPA 58.01.01.616 Infectious waste burning (describing allowable infectious waste fires conducted under the direction of a public health officer);

• IDAPA 58.01.01.617 Crop residue disposal (establishing requirements for crop residue disposal fires);

• IDAPA 58.01.01.618 Permit by rule (requiring that no person may conduct an open burn of crop residue without the applicable permit by rule);

• IDAPA 58.01.01.619 Registration (establishing registration requirements for crop residue burn permit by rule);

• IDAPA 58.01.01.620 Burn fee (setting fee payment deadline for crop residue burns);

• IDAPA 58.01.01.621 Burn approval (establishing the criteria for crop residue burn approval);

• IDAPA 58.01.01.622 General provisions (listing the requirements for persons conducting crop residue burns);

• IDAPA 58.01.01.623 Public notification (indicating that the Idaho DEQ will notify the public of burn or no-burn days);

• IDAPA 58.01.01.624 Spot and baled crop residue burn and propane flaming requirements (detailing the requirements for spot burns, baled burns and propane flaming);

• IDAPA 58.01.01.625 Visible emissions (establishing opacity limits and test methods);

• IDAPA 58.01.01.650 Rules for control of fugitive dust (requiring that all reasonable precautions be taken to prevent fugitive dust);

• IDAPA 58.01.01.651 General rules (establishing general requirements to limit the generation of fugitive dust);

• IDAPA 58.01.01.665 Regional haze rules (addressing visibility impairment in mandatory Class I Federal areas);

• IDAPA 58.01.01.666 Reasonable Progress goals (establishing goals for reasonable progress toward natural visibility conditions);

• IDAPA 58.01.01.667 Long-term strategy for regional haze (establishing long-term strategy requirements);

• IDAPA 58.01.01.675 Fuel burning equipment—particulate matter (establishing particulate matter standards for fuel burning equipment);

• IDAPA 58.01.01.676 Standards for new sources (setting particulate limits for new fuel burning equipment);

• IDAPA 58.01.01.677 Standards for minor and existing sources (setting particulate limits for minor and existing fuel burning equipment);

• IDAPA 58.01.01.678 Combinations of fuels (addressing particulate limits when two or more types of fuel are burned concurrently);

• IDAPA 58.01.01.679 Averaging period (establishing the appropriate averaging period for determining particulate emissions from fuel burning equipment);

• IDAPA 58.01.01.680 Altitude correction (addressing how to correct standard conditions for the altitude of a source);

• IDAPA 58.01.01.681 Test methods and procedures (setting the appropriate test method for measuring fuel burning particulate emissions);

• IDAPA 58.01.01.700 Particulate matter—process weight limitations (establishing particulate matter emission limitations for process equipment);

• IDAPA 58.01.01.701 Particulate matter—new equipment process weight limitations (listing emission standards for new process equipment);

• IDAPA 58.01.01.702 Particulate matter—existing equipment process weight limitations (listing emission standards for existing process equipment);

• IDAPA 58.01.01.703 Particulate matter—other processes (establishing process weight limitations for equipment used to dehydrate sugar beet pulp or alfalfa);

• IDAPA 58.01.01.725 Rules for sulfur content of fuels (establishing limits on the sulfur content of fuels);

• IDAPA 58.01.01.791 General control requirements (prohibiting owners and operators of rock crushers from injuring human health, welfare, property and other requirements);

• IDAPA 58.01.01.793 Emissions standards for nonmetallic mineral processing plants not subject to 40 CFR part 60, subpart OOO (requiring compliance with emissions and opacity standards);

• IDAPA 58.01.01.794 Permit requirements, except 794.04 (setting rock crusher permit by rule eligibility);

• IDAPA 58.01.01.795 Permit by rule requirements (establishing rock crusher permit by rule requirements);

• IDAPA 58.01.01.796 Applicability (establishing permit by rule and permit applicability);

• IDAPA 58.01.01.797 Registration for permit by rule (identifying how to register for the rock crusher permit by rule);

• IDAPA 58.01.01.798 Electrical generators (listing the fuel and operation requirements for electrical generators used to provide power to rock crushers);

• IDAPA 58.01.01.799 Nonmetallic mineral processing plant fugitive dust best management practice (establishing best practices to limit fugitive dust);

• IDAPA 58.01.01.815 Rules for control of kraft pulp mills (establishing emission standards and reporting requirements for recovery furnaces at kraft pulp mills); and

• IDAPA 58.01.01.818 Kraft pulp mill LVHC and HVLC gas venting notification and reporting (requiring excess emissions notification and reporting by subject sources).

B. Idaho Code for Approval and Incorporation by Reference

Upon the effective date of this action, the Idaho SIP at 40 CFR 52.670(c) will include the following provisions of Idaho statute, State effective July 1, 2010:

• Idaho Code 39.103 Definitions, except (4), (5), (8), (9), (10), (12), (13), (14), (15), (16), (17), and (18).

C. IDAPA Provisions To Be Removed From Incorporation by Reference

The EPA is also approving Idaho's request to remove from incorporation by reference in 40 CFR 52.670(c) the following regulations:

• IDAPA 58.01.01.004 Catchlines (stating that catchlines are not to be used to interpret regulations), State effective May 1, 1994;

• IDAPA 58.01.01.011 Definitions for the purposes of sections 790 through 799, State effective March 15, 2002;

• IDAPA 58.01.01.106 Abbreviations (spelling out the abbreviations used in the Idaho air quality regulations), State effective May 1, 1994;

• IDAPA 58.01.01.124 Truth, accuracy and completeness of documents (requiring documents submitted to the state to be true, accurate and complete), State effective May 1, 1994;

• IDAPA 58.01.01.127 Format of responses (requiring documents to be submitted to meet state-specified formatting requirements), State effective May 1, 1994;

• IDAPA 58.01.01.160 Provisions governing specific activities and conditions (regarding toxic air pollutants and polychlorinated biphenyls), State effective April 5, 2000;

• IDAPA 58.01.01.162 Modifying physical conditions (addressing conditions that affect the dispersion of pollutants), State effective May 1, 1994;

• IDAPA 58.01.01.163 Source density (addressing situations where a number of sources are located in proximity to each other), State effective May 1, 1994;

• IDAPA 58.01.01.212 Obligation to comply (requiring compliance with all applicable local, state and Federal statutes, rules, and regulations), State effective May 1, 1994;

• IDAPA 58.01.01.406 Obligation to comply (requiring compliance with all applicable local, state and Federal statutes, rules, and regulations), State effective May 1, 1994;

• IDAPA 58.01.01.515 Approval of field studies and fluid models (requiring EPA approval of field studies and fluid models), State effective May 1, 1994;

• IDAPA 58.01.01.516 No restrictions on actual stack height (addressing actual stack height), State effective May 1, 1994;

• IDAPA 58.01.01.551 Episode criteria (listing air quality episode criteria), State effective May 1, 1994;

• IDAPA 58.01.01.552 Stages (defining air quality episode stages), State effective March 15, 2002;

• IDAPA 58.01.01.553 Effects of stages (addressing the effects of reaching episode stages), State effective March 15, 2002;

• IDAPA 58.01.01.559 Manner and frequency of notification (addressing the manner and frequency of episode announcements), State effective May 1, 1994;

• IDAPA 58.01.01.560 Notification to sources (requiring significant sources be notified), State effective April 11, 2006;

• IDAPA 58.01.01.561 General rules (establishing the general control requirements for each episode stage), State effective April 11, 2006;

• IDAPA 58.01.01.575 Air quality standards and area classification (establishing state ambient air quality standards), State effective April 11, 2006;

• IDAPA 58.01.01.576 General provisions for ambient air quality standards (addressing general standards), State effective May 1, 1994;

• IDAPA 58.01.01.578 Designation of attainment, unclassifiable, and nonattainment areas (listing steps for state designation of areas), State effective May 1, 1994;

• IDAPA 58.01.01.610 Industrial flares (addressing industrial flares as open burning), State effective March 21, 2003;

• IDAPA 58.01.01.626 General restrictions on visible emissions from wigwam burners (setting opanci limits for wigwam burners), State effective April 5, 2000;

• IDAPA 58.01.01.668 BART requirements for regional haze (outlining the process of establishing best available retrofit technology requirements for sources), State effective March 30, 2007;

• IDAPA 58.01.01.785 Rules for control of incinerators (establishing incinerator particulate matter limits), State effective May 1, 1994;

• IDAPA 58.01.01.786 Emission limits (limiting particulate matter emissions from incinerators), State effective April 5, 2000;

• IDAPA 58.01.01.787 Exceptions (exempting wigwam burners from incinerator emission limits), State effective March 23, 1998;

• IDAPA 58.01.01.805 Rules for control of hot mix asphalt plants (limiting particulate matter emissions from hot mix asphalt plants), State effective May 1, 1994;

• IDAPA 58.01.01.806 Emission limits (requiring compliance with the process weight rate limitations), State effective May 1, 1994;

• IDAPA 58.01.01.807 Multiple stacks (establishing that total emissions from all stacks are to be compared to the emission limit), State effective May 1, 1994; and

• IDAPA 58.01.01.808 Fugitive dust control (requiring fugitive dust control systems), State effective May 1, 1994.

IV. Incorporation by Reference

In this document, the EPA is finalizing regulatory text that includes incorporation by reference. In accordance with requirements of 1 CFR 51.5, we are finalizing the incorporation by reference of the Idaho regulatory provisions described in section III. of this preamble and set forth in the amendments to 40 CFR part 52 in this document. We are also removing from the SIP certain IDAPA regulatory provision identified in section III. of this preamble. The EPA has made, and will continue to make, these materials generally available through https://www.regulations.gov and at the EPA Region 10 Office (please contact the person identified in the FOR FURTHER INFORMATION CONTACT section of this preamble for more information). Therefore, these materials have been approved by the EPA for inclusion in the SIP, have been incorporated by reference by the EPA into that plan, are fully federally enforceable under sections 110 and 113 of the Clean Air Act as of the effective date of the final rule of the EPA's approval, and will be incorporated by reference in the next update to the SIP compilation.¹

¹ 62 FR 27968 (May 22, 1997).

Also in this document, the EPA is removing regulatory text from incorporated by reference, as described in section III. of this preamble.

V. Statutory and Executive Order Reviews

Under the Clean Air Act, the Administrator is required to approve a SIP submission that complies with the provisions of the Clean Air Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act.

Executive Order 12898 (Federal Actions to Address Environmental Justice in Minority Populations and Low-Income Populations, 59 FR 7629, February 16, 1994) directs Federal agencies to identify and address “disproportionately high and adverse human health or environmental effects” of their actions on minority populations and low-income populations to the greatest extent practicable and permitted by law. The EPA defines environmental justice (EJ) as “the fair treatment and meaningful involvement of all people regardless of race, color, national origin, or income with respect to the development, implementation, and enforcement of environmental laws, regulations, and policies.” The EPA further defines the term fair treatment to mean that “no group of people should bear a disproportionate burden of environmental harms and risks, including those resulting from the negative environmental consequences of industrial, governmental, and commercial operations or programs and policies.”

The air agency did not evaluate environmental justice considerations as part of its SIP submission; the Clean Air Act and applicable implementing regulations neither prohibit nor require such an evaluation. The EPA did not perform an EJ analysis and did not consider EJ in this action. Due to the nature of this action, it is expected to have a neutral to positive impact on the air quality of the affected area. Consideration of EJ is not required as part of this action, and there is no information in the record inconsistent with the stated goal of Executive Order 12898 of achieving environmental justice for communities with EJ concerns.

In addition, the SIP is not approved to apply on any Indian reservation land or in any other area where the EPA or an Indian Tribe has demonstrated that a Tribe has jurisdiction. In those areas of Indian country, the rule does not have Tribal implications and it will not impose substantial direct costs on Tribal governments or preempt Tribal law as specified by Executive Order 13175 (65 FR 67249, November 9, 2000).

This action is subject to the Congressional Review Act, and the EPA will submit a rule report to each House of the Congress and to the Comptroller General of the United States. This action is not a “major rule” as defined by 5 U.S.C. 804(2).

Under section 307(b)(1) of the Clean Air Act, petitions for judicial review of this action must be filed in the United States Court of Appeals for the appropriate circuit by February 3, 2025. Filing a petition for reconsideration by the Administrator of this final rule does not affect the finality of this action for the purposes of judicial review nor does it extend the time within which a petition for judicial review may be filed and shall not postpone the effectiveness of such rule or action. This action may not be challenged later in proceedings to enforce its requirements. See section 307(b)(2).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: November, 26, 2024.
Casey Sixkiller,
Regional Administrator, Region 10.

For the reasons set forth in the preamble, 40 CFR part 52 is amended as follows:

PART 52—APPROVAL AND PROMULGATION OF IMPLEMENTATION PLANS

1. The authority citation for part 52 continues to read as follows:

Authority: 42 U.S.C. 7401 et seq.

Subpart N—Idaho

2. In § 52.670, revise and republish paragraph (c) to read as follows:

§ 52.670 Identification of plan.

* * * * *

(c) EPA approved laws and regulations.

Table 1 to Paragraph (c)—State Regulations
State citation | Title/subject | State effective date | EPA approval date | Explanations
Rules for the Control of Air Pollution in Idaho (IDAPA 58.01.01)
001 | Title and scope | 3/28/2023 | 12/5/2024, [INSERT FIRST PAGE OF FEDERAL REGISTER CITATION] |
005 | Definitions | 3/28/2023 | 12/5/2024, [INSERT FIRST PAGE OF FEDERAL REGISTER CITATION] |
006 | General definitions | 3/28/2023 | 12/5/2024, [INSERT FIRST PAGE OF FEDERAL REGISTER CITATION] | Except Section 006.23, 006.24, 006.25, 006.30, 006.31.b, 006.49, 006.50, 006.51.
007 | Definitions for the purposes of sections 200 through 225 and 400 through 461 | 3/28/2023 | 12/5/2024, [INSERT FIRST PAGE OF FEDERAL REGISTER CITATION] |
107 | Incorporations by reference | 7/1/2024 | 12/5/2024, [INSERT FIRST PAGE OF FEDERAL REGISTER CITATION] | Except Section 107.06 through 107.16.
108 | Obligation to comply | 3/28/2023 | 12/5/2024, [INSERT FIRST PAGE OF FEDERAL REGISTER CITATION] |
121 | Compliance requirements by department | 3/28/2023 | 12/5/2024, [INSERT FIRST PAGE OF FEDERAL REGISTER CITATION] |
122 | Information orders by the department | 3/28/2023 | 12/5/2024, [INSERT FIRST PAGE OF FEDERAL REGISTER CITATION] |
123 | Certification of documents | 3/28/2023 | 12/5/2024, [INSERT FIRST PAGE OF FEDERAL REGISTER CITATION] |
125 | False statements | 3/28/2023 | 12/5/2024, [INSERT FIRST PAGE OF FEDERAL REGISTER CITATION] |
126 | Tampering | 3/28/2023 | 12/5/2024, [INSERT FIRST PAGE OF FEDERAL REGISTER CITATION] |
130 | Startup, shutdown, scheduled maintenance, safety measures, upset and breakdown | 7/1/2024 | 12/5/2024, [INSERT FIRST PAGE OF FEDERAL REGISTER CITATION] |
131 | Excess emissions | 3/28/2023 | 12/5/2024, [INSERT FIRST PAGE OF FEDERAL REGISTER CITATION] |
132 | Correction of condition | 3/28/2023 | 12/5/2024, [INSERT FIRST PAGE OF FEDERAL REGISTER CITATION] |
133 | Startup, shutdown and scheduled maintenance requirements | 3/28/2023 | 12/5/2024, [INSERT FIRST PAGE OF FEDERAL REGISTER CITATION] |
134 | Upset, breakdown and safety requirements | 3/28/2023 | 12/5/2024, [INSERT FIRST PAGE OF FEDERAL REGISTER CITATION] |
135 | Excess emissions reports | 3/28/2023 | 12/5/2024, [INSERT FIRST PAGE OF FEDERAL REGISTER CITATION] |
136 | Excess emissions records | 3/28/2023 | 12/5/2024, [INSERT FIRST PAGE OF FEDERAL REGISTER CITATION] |
155 | Circumvention | 3/28/2023 | 12/5/2024, [INSERT FIRST PAGE OF FEDERAL REGISTER CITATION] |
156 | Total compliance | 5/1/1994 | 1/16/2003, 68 FR 2217 |
157 | Test methods and procedures | 3/28/2023 | 12/5/2024, [INSERT FIRST PAGE OF FEDERAL REGISTER CITATION] |
164 | Polychlorinated biphenyls (PCBs) | 3/28/2023 | 12/5/2024, [INSERT FIRST PAGE OF FEDERAL REGISTER CITATION] |
175 | Procedures and requirements for permits establishing a facility emissions cap | 3/28/2023 | 12/5/2024, [INSERT FIRST PAGE OF FEDERAL REGISTER CITATION] |
176 | Facility emissions cap | 3/28/2023 | 12/5/2024, [INSERT FIRST PAGE OF FEDERAL REGISTER CITATION] | Except for provisions relating to hazardous air pollutants.
177 | Application procedures | 4/11/2015 | 8/12/2016, 81 FR 53290 |
178 | Standard contents of permits establishing a facility emissions cap | 3/28/2023 | 12/5/2024, [INSERT FIRST PAGE OF FEDERAL REGISTER CITATION] |
179 | Procedures for issuing permits establishing a facility emissions cap | 3/28/2023 | 12/5/2024, [INSERT FIRST PAGE OF FEDERAL REGISTER CITATION] |
180 | Revisions to permits establishing a facility emissions cap | 3/28/2023 | 12/5/2024, [INSERT FIRST PAGE OF FEDERAL REGISTER CITATION] |
181 | Notice and record-keeping of estimates of ambient concentrations | 3/28/2023 | 12/5/2024, [INSERT FIRST PAGE OF FEDERAL REGISTER CITATION] |
200 | Procedures and requirements for permits to construct | 3/28/2023 | 12/5/2024, [INSERT FIRST PAGE OF FEDERAL REGISTER CITATION] |
201 | Permit to construct required | 3/28/2023 | 12/5/2024, [INSERT FIRST PAGE OF FEDERAL REGISTER CITATION] |
202 | Application procedures | 3/28/2023 | 12/5/2024, [INSERT FIRST PAGE OF FEDERAL REGISTER CITATION] |
203 | Permit requirements for new and modified stationary sources | 3/28/2023 | 12/5/2024, [INSERT FIRST PAGE OF FEDERAL REGISTER CITATION] | Except subsection 203.03.
204 | Permit requirements for new major facilities or major modifications in nonattainment areas | 3/28/2023 | 12/5/2024, [INSERT FIRST PAGE OF FEDERAL REGISTER CITATION] |
205 | Permit requirements for new major facilities or major modifications in attainment or unclassifiable areas | 3/28/2023 | 12/5/2024, [INSERT FIRST PAGE OF FEDERAL REGISTER CITATION] |
206 | Optional offsets for permits to construct | 3/28/2023 | 12/5/2024, [INSERT FIRST PAGE OF FEDERAL REGISTER CITATION] |
207 | Requirements for emission reduction credit | 5/1/1994 | 12/5/2024, [INSERT FIRST PAGE OF FEDERAL REGISTER CITATION] |
208 | Demonstration of net air quality benefit | 3/28/2023 | 12/5/2024, [INSERT FIRST PAGE OF FEDERAL REGISTER CITATION] |
209 | Procedure for issuing permits | 3/28/2023 | 12/5/2024, [INSERT FIRST PAGE OF FEDERAL REGISTER CITATION] |
211 | Conditions for permits to construct | 3/28/2023 | 12/5/2024, [INSERT FIRST PAGE OF FEDERAL REGISTER CITATION] |
212 | Relaxation of standards or restrictions | 3/28/2023 | 12/5/2024, [INSERT FIRST PAGE OF FEDERAL REGISTER CITATION] |
213 | Pre-permit construction | 3/28/2023 | 12/5/2024, [INSERT FIRST PAGE OF FEDERAL REGISTER CITATION] |
220 | General exemption criteria for permit to construct exemptions | 3/28/2023 | 12/5/2024, [INSERT FIRST PAGE OF FEDERAL REGISTER CITATION] |
221 | Category I exemption | 3/28/2023 | 12/5/2024, [INSERT FIRST PAGE OF FEDERAL REGISTER CITATION] |
222 | Category II exemption | 3/28/2023 | 12/5/2024, [INSERT FIRST PAGE OF FEDERAL REGISTER CITATION] |
226 | Payment of fees for permits to construct | 3/28/2023 | 12/5/2024, [INSERT FIRST PAGE OF FEDERAL REGISTER CITATION] |
227 | Receipt and usage of fees | 3/28/2023 | 12/5/2024, [INSERT FIRST PAGE OF FEDERAL REGISTER CITATION] |
400 | Procedures and requirements for Tier II operating permits | 3/28/2023 | 12/5/2024, [INSERT FIRST PAGE OF FEDERAL REGISTER CITATION] |
401 | Tier II operating permit | 3/28/2023 | 12/5/2024, [INSERT FIRST PAGE OF FEDERAL REGISTER CITATION] | Except 401.01.a and 401.04.
402 | Application procedures | 3/28/2023 | 12/5/2024, [INSERT FIRST PAGE OF FEDERAL REGISTER CITATION] |
403 | Permit requirements for Tier II sources | 3/28/2023 | 12/5/2024, [INSERT FIRST PAGE OF FEDERAL REGISTER CITATION] |
404 | Procedure for issuing permits | 3/28/2023 | 12/5/2024, [INSERT FIRST PAGE OF FEDERAL REGISTER CITATION] |
405 | Conditions for Tier II operating permits | 3/28/2023 | 12/5/2024, [INSERT FIRST PAGE OF FEDERAL REGISTER CITATION] |
460 | Requirements for emission reduction credit | 3/28/2023 | 12/5/2024, [INSERT FIRST PAGE OF FEDERAL REGISTER CITATION] |
461 | Requirements for banking emission reduction credits (ERC's) | 3/28/2023 | 12/5/2024, [INSERT FIRST PAGE OF FEDERAL REGISTER CITATION] |
500 | Registration procedures and requirements for portable equipment | 3/28/2023 | 12/5/2024, [INSERT FIRST PAGE OF FEDERAL REGISTER CITATION] |
510 | Stack heights and dispersion techniques | 3/28/2023 | 12/5/2024, [INSERT FIRST PAGE OF FEDERAL REGISTER CITATION] |
511 | Requirements | 3/28/2023 | 12/5/2024, [INSERT FIRST PAGE OF FEDERAL REGISTER CITATION] |
512 | Opportunity for public hearing | 3/28/2023 | 12/5/2024, [INSERT FIRST PAGE OF FEDERAL REGISTER CITATION] |
513 | Approval of field studies and fluid models | 3/28/2023 | 12/5/2024, [INSERT FIRST PAGE OF FEDERAL REGISTER CITATION] |
514 | No restriction on actual stack height | 3/28/2023 | 12/5/2024, [INSERT FIRST PAGE OF FEDERAL REGISTER CITATION] |
550 | Air quality episodes | 3/28/2023 | 12/5/2024, [INSERT FIRST PAGE OF FEDERAL REGISTER CITATION] |
556 | Criteria for declaring air quality episodes | 3/28/2023 | 12/5/2024, [INSERT FIRST PAGE OF FEDERAL REGISTER CITATION] |
557 | Requirements during air quality episodes | 3/28/2023 | 12/5/2024, [INSERT FIRST PAGE OF FEDERAL REGISTER CITATION] |
558 | Notification of air quality episode | 3/28/2023 | 12/5/2024, [INSERT FIRST PAGE OF FEDERAL REGISTER CITATION] |
562 | Specific air quality episode abatement plans for stationary sources | 3/28/2023 | 12/5/2024, [INSERT FIRST PAGE OF FEDERAL REGISTER CITATION] |
563 | Transportation conformity | 3/30/2001 | 4/12/2001, 66 FR 18873
564 | Incorporation by reference | 3/30/2001 | 4/12/2001, 66 FR 18873
565 | Abbreviations | 3/30/2001 | 4/12/2001, 66 FR 18873
566 | Definitions for the purpose of sections 563 through 574 and 582 | 3/30/2001 | 4/12/2001, 66 FR 18873
567 | Agencies affected by consultation | 3/30/2001 | 4/12/2001 66 FR 18873
568 | ICC Member Roles in Consultation | 3/30/2001 | 4/12/2001, 66 FR 18873
569 | ICC member responsibilities in Consultation | 3/30/2001 | 4/12/2001, 66 FR 18873
570 | General consultation process | 3/30/2001 | 4/12/2001, 66 FR 18873
571 | Consultation Procedures | 3/30/2001 | 4/12/2001, 66 FR 18873
572 | Final conformity determinations by USDOT | 3/30/2001 | 4/12/2001, 66 FR 18873
573 | Resolving conflicts | 3/30/2001 | 4/12/2001, 66 FR 18873
574 | Public consultation procedures | 3/30/2001 | 4/12/2001, 66 FR 18873
579 | Baselines for prevention of significant deterioration | 3/28/2023 | 12/5/2024, [INSERT FIRST PAGE OF FEDERAL REGISTER CITATION] |
580 | Classification of prevention of significant deterioration areas | 3/28/2023 | 12/5/2024, [INSERT FIRST PAGE OF FEDERAL REGISTER CITATION] |
581 | Prevention of significant deterioration (PSD) increments | 3/28/2023 | 12/5/2024, [INSERT FIRST PAGE OF FEDERAL REGISTER CITATION] |
600 | Rules for control of open burning | 3/28/2023 | 12/5/2024, [INSERT FIRST PAGE OF FEDERAL REGISTER CITATION] | Previous EPA approval date of 7/11/2005 removed in response to 9th Circuit remand.
601 | Fire permits, hazardous materials, and liability | 3/28/2023 | 12/5/2024, [INSERT FIRST PAGE OF FEDERAL REGISTER CITATION] | Previous EPA approval date of 7/11/2005 removed in response to 9th Circuit remand.
602 | Nonpreemption of other jurisdiction | 3/28/2023 | 12/5/2024, [INSERT FIRST PAGE OF FEDERAL REGISTER CITATION] | Previous EPA approval date of 7/11/2005 removed in response to 9th Circuit remand.
603 | General requirements | 3/28/2023 | 12/5/2024, [INSERT FIRST PAGE OF FEDERAL REGISTER CITATION] | Previous EPA approval date of 7/11/2005 removed in response to 9th Circuit remand.
606 | Categories of allowable burning | 3/28/2023 | 12/5/2024, [INSERT FIRST PAGE OF FEDERAL REGISTER CITATION] | Previous EPA approval date of 7/11/2005 removed in response to 9th Circuit remand.
607 | Recreational and warming fires | 3/28/2023 | 12/5/2024, [INSERT FIRST PAGE OF FEDERAL REGISTER CITATION] | Previous EPA approval date of 7/11/2005 removed in response to 9th Circuit remand.
608 | Weed control fires | 3/28/2023 | 12/5/2024, [INSERT FIRST PAGE OF FEDERAL REGISTER CITATION] | Previous EPA approval date of 7/11/2005 removed in response to 9th Circuit remand.
609 | Training fires | 3/28/2023 | 12/5/2024, [INSERT FIRST PAGE OF FEDERAL REGISTER CITATION] | Previous EPA approval date of 7/11/2005 removed in response to 9th Circuit remand.
611 | Residential yard waste fires | 3/28/2023 | 12/5/2024, [INSERT FIRST PAGE OF FEDERAL REGISTER CITATION] |
612 | Solid waste facility fires | 3/28/2023 | 12/5/2024, [INSERT FIRST PAGE OF FEDERAL REGISTER CITATION] | Previous EPA approval date of 7/11/2005 removed in response to 9th Circuit remand.
613 | Orchard fires | 3/28/2023 | 12/5/2024, [INSERT FIRST PAGE OF FEDERAL REGISTER CITATION] | Previous EPA approval date of 7/11/2005 removed in response to 9th Circuit remand.
614 | Prescribed fires | 3/28/2023 | 12/5/2024, [INSERT FIRST PAGE OF FEDERAL REGISTER CITATION] |
615 | Dangerous material fires | 3/28/2023 | 12/5/2024, [INSERT FIRST PAGE OF FEDERAL REGISTER CITATION] | Previous EPA approval date of 7/11/2005 removed in response to 9th Circuit remand.
616 | Infectious waste burning | 3/28/2023 | 12/5/2024, [INSERT FIRST PAGE OF FEDERAL REGISTER CITATION] | Previous EPA approval date of 7/11/2005 removed in response to 9th Circuit remand.
617 | Crop residue disposal | 3/28/2023 | 12/5/2024, [INSERT FIRST PAGE OF FEDERAL REGISTER CITATION] |
618 | Permit by rule | 3/28/2023 | 12/5/2024, [INSERT FIRST PAGE OF FEDERAL REGISTER CITATION] |
619 | Registration | 3/28/2023 | 12/5/2024, [INSERT FIRST PAGE OF FEDERAL REGISTER CITATION] |
620 | Burn fee | 3/28/2023 | 12/5/2024, [INSERT FIRST PAGE OF FEDERAL REGISTER CITATION] |
621 | Burn approval | 3/28/2023 | 12/5/2024, [INSERT FIRST PAGE OF FEDERAL REGISTER CITATION] |
622 | General provisions | 3/28/2023 | 12/5/2024, [INSERT FIRST PAGE OF FEDERAL REGISTER CITATION] |
623 | Public notification | 3/28/2023 | 12/5/2024, [INSERT FIRST PAGE OF FEDERAL REGISTER CITATION] |
624 | Spot and baled crop residue burn and propane flaming requirements | 3/28/2023 | 12/5/2024, [INSERT FIRST PAGE OF FEDERAL REGISTER CITATION] |
625 | Visible emissions | 3/28/2023 | 12/5/2024, [INSERT FIRST PAGE OF FEDERAL REGISTER CITATION] |
650 | Rules for control of fugitive dust | 3/28/2023 | 12/5/2024, [INSERT FIRST PAGE OF FEDERAL REGISTER CITATION] |
651 | General rules | 3/28/2023 | 12/5/2024, [INSERT FIRST PAGE OF FEDERAL REGISTER CITATION] |
665 | Regional haze rules | 3/28/2023 | 12/5/2024, [INSERT FIRST PAGE OF FEDERAL REGISTER CITATION] |
666 | Reasonable progress goals | 3/28/2023 | 12/5/2024, [INSERT FIRST PAGE OF FEDERAL REGISTER CITATION] |
667 | Long-term strategy for regional haze | 3/28/2023 | 12/5/2024, [INSERT FIRST PAGE OF FEDERAL REGISTER CITATION] |
675 | Fuel burning equipment—particulate matter | 3/28/2023 | 12/5/2024, [INSERT FIRST PAGE OF FEDERAL REGISTER CITATION] |
676 | Standards for new sources | 3/28/2023 | 12/5/2024, [INSERT FIRST PAGE OF FEDERAL REGISTER CITATION] |
677 | Standards for minor and existing sources | 3/28/2023 | 12/5/2024, [INSERT FIRST PAGE OF FEDERAL REGISTER CITATION] |
678 | Combinations of fuels | 3/28/2023 | 12/5/2024, [INSERT FIRST PAGE OF FEDERAL REGISTER CITATION] |
679 | Averaging period | 3/28/2023 | 12/5/2024, [INSERT FIRST PAGE OF FEDERAL REGISTER CITATION] |
680 | Altitude correction | 3/28/2023 | 12/5/2024, [INSERT FIRST PAGE OF FEDERAL REGISTER CITATION] |
681 | Test methods and procedures | 3/28/2023 | 12/5/2024, [INSERT FIRST PAGE OF FEDERAL REGISTER CITATION] |
700 | Particulate matter—process weight limitations | 3/28/2023 | 12/5/2024, [INSERT FIRST PAGE OF FEDERAL REGISTER CITATION] |
701 | Particulate matter—new equipment process weight limitations | 3/28/2023 | 12/5/2024, [INSERT FIRST PAGE OF FEDERAL REGISTER CITATION] |
702 | Particulate matter—existing equipment process weight limitations | 3/28/2023 | 12/5/2024, [INSERT FIRST PAGE OF FEDERAL REGISTER CITATION] |
703 | Particulate matter—other processes | 3/28/2023 | 12/5/2024, [INSERT FIRST PAGE OF FEDERAL REGISTER CITATION] |
725 | Rules for sulfur content of fuels | 3/28/2023 | 12/5/2024, [INSERT FIRST PAGE OF FEDERAL REGISTER CITATION] |
790 | Rule for the control of nonmetallic mineral processing plants | 3/15/2002 | 8/12/2016, 81 FR 53290
791 | General control requirements | 3/28/2023 | 12/5/2024, [INSERT FIRST PAGE OF FEDERAL REGISTER CITATION] |
793 | Emissions standards for nonmetallic mineral processing plants not subject to 40 CFR part 60, subpart OOO | 3/28/2023 | 12/5/2024, [INSERT FIRST PAGE OF FEDERAL REGISTER CITATION] |
794 | Permit requirements | 3/28/2023 | 12/5/2024, [INSERT FIRST PAGE OF FEDERAL REGISTER CITATION] | Except Section 794.04.
795 | Permit by rule requirements | 3/28/2023 | 12/5/2024, [INSERT FIRST PAGE OF FEDERAL REGISTER CITATION] |
796 | Applicability | 3/28/2023 | 12/5/2024, [INSERT FIRST PAGE OF FEDERAL REGISTER CITATION] |
797 | Registration for permit by rule | 3/28/2023 | 12/5/2024, [INSERT FIRST PAGE OF FEDERAL REGISTER CITATION] |
798 | Electrical generators | 3/28/2023 | 12/5/2024, [INSERT FIRST PAGE OF FEDERAL REGISTER CITATION] |
799 | Nonmetallic mineral processing plan fugitive dust best management practice | 3/15/2002 | 8/12/2016, 81 FR 53290
815 | Rules for control of kraft pulp mills | 3/28/2023 | 12/5/2024, [INSERT FIRST PAGE OF FEDERAL REGISTER CITATION] |
818 | Kraft pulp mill LVHC and HVLC gas venting notification and reporting | 3/28/2023 | 12/5/2024, [INSERT FIRST PAGE OF FEDERAL REGISTER CITATION] |

Table 2 to Paragraph (c)—State Statutes
State citation | Title/subject | State effective date | EPA approval date | Explanations
Section 4 of Senate Bill 1024, codified at Idaho Code section 39-114 | Open Burning of Crop Residue | 2/28/2018 | 12/9/2019, 84 FR 67189
Idaho Code section 39-107(1)(a) | Board—Composition—Officers—Compensation—Powers—Subpoena—Depositions—Review—Rules | 7/1/2022 | 5/26/2023, 88 FR 34093 | To satisfy the requirements of CAA section 128(a)(1) and CAA section 110(a)(2)(E)(ii) for all criteria pollutants.
Idaho Code section 39.103 | Definitions | 7/1/2010 | 12/5/2024, [INSERT FIRST PAGE OF FEDERAL REGISTER CITATION] | Except (4), (5), (8), (9), (10), (12), (13), (14), (15), (16), (17), and (18).

Table 3 to Paragraph (c)—City and County Codes and Ordinances
State citation | Title/subject | State effective date | EPA approval date | Explanations
City of Sandpoint Ordinance No. 939 | Material Specifications for Street Sanding Material | 2/22/1994 (City adoption date) | 6/26/2002, 67 FR 43006 | Sandpoint PM10 Nonattainment Area Plan.
City of Sandpoint Chapter 8 Air Quality (4-8-1 through 4-8-14) | Solid Fuel Heating Appliances | 9/21/2011 (City adoption date) | 4/3/2013, 78 FR 20001 | Codified version of City of Sandpoint Ordinance No. 965 as amended by Ordinance No. 1237 and Ordinance No. 1258. Sandpoint PM10 Limited Maintenance Plan.
Boise City Ordinance 4432 | Parking Permits | 8/13/1979 (City approval date) | 6/6/1985, 50 FR 23810 | Transportation Control Plan for carbon monoxide, Ada County.
City of Garden City Ordinance 514, 533, and 624 | Solid Fuel Heating Appliance Ordinance of the City of Garden City, Idaho | 5/14/1987, 1/10/1989, 9/13/1994 (City approval dates) | 5/30/1996, 61 FR 27019 | Northern Ada County PM10 Nonattainment Area Plan.
Meridian Ordinance 667 | Meridian Clean Air Ordinance | 8/16/1994 (City approval date) | 5/30/1996, 61 FR 27019 | Northern Ada County PM10 Nonattainment Area Plan.
City of Eagle Ordinance 245 | City of Eagle Clean Air Ordinance | 4/26/1994 (City approval date) | 5/30/1996, 61 FR 27019 | Northern Ada County PM10 Nonattainment Area Plan.
Ada County Ordinance 254 | Ada County Clean Air Ordinance | 11/3/1992 (County adoption date) | 5/30/1996, 61 FR 27019 | Northern Ada County PM10 Nonattainment Area Plan.
Table: Ordinance-1 | Explanation of enforcement procedures, responsibilities and sources of funding for the Northern Ada County Wood Burning Control Ordinances | 12/30/1994 (date of table) | 5/30/1996, 61 FR 27019 | Northern Ada County PM10 Nonattainment Area Plan.
City of Pocatello Ordinance 2450 | Residential wood combustion curtailment ordinance | 1/12/1994 | 7/13/2006, 71 FR 39574 | Portneuf Valley Nonattainment Area Plan and Maintenance Plan.
City of Pocatello Ordinance 2726 | Revised air quality curtailment levels | 9/18/2003 | 7/13/2006, 71 FR 39574 | Portneuf Valley Nonattainment Area Plan and Maintenance Plan.
City of Chubbuck Ordinance 403 | Residential wood combustion curtailment ordinance | 11/23/1993 | 7/13/2006, 71 FR 39574 | Portneuf Valley Nonattainment Area Plan and Maintenance Plan.
City of Chubbuck Ordinance 582 | Revised air quality curtailment levels | 12/9/2003 | 7/13/2006, 71 FR 39574 | Portneuf Valley Nonattainment Area Plan and Maintenance Plan.
City of Clifton Ordinance No. 120 | Ordinance No. 120 | 8/11/2012 | 3/25/2014, 79 FR 16201 | Except Section 9 (Penalty).
City of Dayton Ordinance #287 | Ordinance #287 | 8/8/2012 | 3/25/2014, 79 FR 16201 | Except Section 9 (Penalty).
Franklin City Ordinance No. 2012-9-12 | Solid Fuel Heating Appliances | 9/12/2012 | 3/25/2014, 79 FR 16201 | Except Section 9 (Penalty).
Franklin County Ordinance No. 2012-6-25 | Solid Fuel Heating Appliances | 6/25/2012 | 3/25/2014, 79 FR 16201 | Except Section 9 (Penalty).
City of Oxford Memorandum of Understanding | Solid Fuel Heating Appliances | 10/22/2012 | 3/25/2014, 79 FR 16201 | Except #2 of the MOA and Section 9 of Exhibit A.
City of Preston Ordinance No. 2012-1 | Ordinance No. 2012-1 | 6/11/2012 | 3/25/2014, 79 FR 16201 | Except Section 9 (Penalty).
City of Weston Ordinance No. 2012-01 | Ordinance No. 2012-01 | 8/1/2012 | 3/25/2014, 79 FR 16201 | Except Section 9 (Penalty).

* * * * *

[FR Doc. 2024-28364 Filed 12-4-24; 8:45 am]

BILLING CODE 6560-50-P